DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on March 8-11, 2004, from 9 a.m. to 4:30 p.m.

ADDRESS: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 202 meeting. The agenda will include:

• March 8-9:

• Working Groups 1 through 4 meet all day

• March 10:

• Opening Plenary Session (Welcome and Introductory Remarks, Review Agenda, Review/Approve previous Common Plenary Summary, Review Open Action Items)

• Report from Eurocae Working Group WG-58, meeting March 2-4, 2004, in Hamburg

• Report from Consumer Electronic Association (CEA) Discovery Group

• Update from Regulatory Affairs

• Overview of comments received on Draft 2 Phase 1 document and Working Group Allocations

• Working Groups report out/each working group will cover the following topics:

• Overview and disposition of comments received on draft document

• Conclusions and Recommendations for the overall document

• Coverage of TOR

• What else remains to be done to complete Phase 1 document

• Working Group 1 (PEDs characterization, test, and evaluation)

• Working Group 2 (Aircraft test and analysis)

• Working Group 3 (Aircraft systems susceptibility)

• Working Group 4 (Risk assessment, practical application, and final documentation)

• Human Factors sub-group

• Process Checklist sub-group

• March 11:

• Continue Plenary Session

• Committee consensus on content of draft document

• Consensus on Conclusions and Recommendations

• Forward to RTCA with SC-202 recommendation to release for Final Review and Comment

• Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 12, 2004.
Robert Zoldos,
FAA System Engineer, RTCA Advisory Committee.

[FR Doc. 04-4198 Filed 2-24-04; 8:45 am]

BILLING CODE 4910-13-M